DEPARTMENT OF HOMELAND SECURITY

[Docket No. DHS-2011-0115]

Request for Public Comments Concerning U.S.-Canada Action Plan for Perimeter Security and Economic Competitiveness

AGENCY: Office of Policy, DHS.

ACTION: Notice.

SUMMARY: The United States and Canada are staunch allies, vital economic partners, neighbors, and steadfast friends. We share common values, communities, and deep links among our citizens. The extensive mobility of people, goods, capital, and information between our two countries has helped ensure that our societies remain open, democratic, prosperous, and secure.

On February 4, 2011, President Barack Obama and Canadian Prime Minister Stephen Harper announced Beyond the Border: A Shared Vision for Perimeter Security and Economic Competitiveness. This declaration describes a perimeter approach to security in which the United States and Canada share responsibility for the security and resilience of our nations. Our countries will seek to jointly address threats at the earliest point possible, while working together to facilitate the flows of legitimate travel and trade.

Beyond the Border identifies four key areas of cooperation: Addressing Threats Early; Trade Facilitation, Economic Growth, and Jobs; Integrated Cross-Border Law Enforcement; and Critical Infrastructure and Cybersecurity. Progress in these areas will be underpinned by a respect for the sovereignty, civil rights and civil liberties, privacy protections, and legal frameworks of both countries.

On December 7, 2011, President Barack Obama and Prime Minister Harper announced the Beyond the Border Action Plan, which describes specific initiatives our countries intend to undertake to achieve Beyond the Border's goals of perimeter security and economic competitiveness. With this notice, the United States Department of Homeland Security (DHS), on behalf of the Administration, is seeking public input on the Beyond the Border Action Plan.

DATES: The agency must receive comments on or before January 9, 2012.

ADDRESSES: Interested parties are invited to submit comments on the BTB Action Plan. You may submit comments, identified by the docket number DHS-2011-0115 through the Federal eRulemaking Portal: http://www.regulations.gov. Follow the instructions for submitting comments.

Electronic comment submissions should be emailed to BeyondtheBorder@hq.dhs.gov. Please direct written submissions to Beyond the Border Coordinator, U.S. Department of Homeland Security, Mailstop 0455, Washington, DC 20016. The public is strongly encouraged to file submissions electronically rather than by mail.

FOR FURTHER INFORMATION CONTACT: BeyondtheBorder@hq.dhs.gov or visit http://www.dhs.gov/files/publications/beyond-the-border.shtm.

SUPPLEMENTARY INFORMATION: None.

Requirements for Submissions: In order to ensure the timely receipt and consideration of comments, the White House and DHS strongly encourage commenters to make submissions via email to BeyondtheBorder@hq.dhs.gov.

For any comments submitted electronically containing business confidential information, the file name of the business confidential version should begin with the characters “BC”. The top of any page containing business confidential information must clearly be marked “BUSINESS CONFIDENTIAL”. Any person filing comments that contain business confidential information must also file in a separate submission a public version of the comments. The file name of the public version of the comments should begin with the character “P”. The “BC” and “P” should be followed by the name of the person or entity submitting the comments. If a comment contains no business confidential information, the file name should begin with the character “P”, followed by the name of the person or entity submitting comments.

Please do not attach separate cover letters to electronic submissions; rather, include any information that might appear in a cover letter in the comments themselves. Similarly, to the extent possible, please include any exhibits, annexes, or other attachments in the same file as the submission itself, not as separate files.

Luis Alvarez,
Deputy Assistant Secretary for International Affairs.

[FR Doc. 2011-31598 Filed 12-8-11; 8:45 am]

BILLING CODE 9110-9L-P